DEPARTMENT OF TRANSPORTATION

Federal Transit Administration

[Docket No. FTA-2015-0027]

Notice of Proposed Buy America Waiver for Voith Propulsion Unit

AGENCY: Federal Transit Administration, DOT.

ACTION: Notice of Proposed Buy America waiver and request for comment.

SUMMARY: The Federal Transit Administration (FTA) received a request from the Virginia Department of Transportation (VDOT) for a Buy America waiver for Voith Turbo Schneider Propeller GmbH (Voith) 21/R5 propulsion units based on non-availability. Voith, located in Germany, is the sole manufacturer of the required propulsion units. VDOT is procuring the propulsion units as part of an engine and drive system replacement for the Ferry Boat Pocahontas, which is operated by VDOT. There are no domestic manufacturers of equivalent propulsion units. FTA is providing notice of the non-availability waiver request and seeks public comment before deciding whether to grant the request. If granted, the waiver would apply to the purchase of two (2) Voith 21/R5 propulsion units. FTA is also providing notice that it will be conducting a supplier scouting search to determine whether there are domestic alternatives to the propulsion units via the process described at the end of this Notice.

DATES: Comments must be received by October 29, 2015. Late-filed comments will be considered to the extent practicable.

ADDRESSES: Please submit your comments by one of the following means, identifying your submissions by docket number FTA-2015-0027:

1. Web site: http://www.regulations.gov. Follow the instructions for submitting comments on the U.S. Government electronic docket site.

2. Fax: (202) 493-2251.

3. Mail: U.S. Department of Transportation, 1200 New Jersey Avenue SE., Docket Operations, M-30, West Building, Ground Floor, Room W12-140, Washington, DC 20590-0001.

4. Hand Delivery: U.S. Department of Transportation, 1200 New Jersey Avenue SE., Docket Operations, M-30, West Building, Ground Floor, Room W12-140, Washington, DC 20590-0001 between 9 a.m. and 5 p.m., Monday through Friday, except Federal holidays.

Instructions: All submissions must make reference to the “Federal Transit Administration” and include docket number FTA-2015-0027. Due to the security procedures in effect since October 2011, mail received through the U.S. Postal Service may be subject to delays. Parties making submissions responsive to this notice should consider using an express mail firm to ensure the prompt filing of any submissions not filed electronically or by hand. Note that all submissions received, including any personal information therein, will be posted without change or alteration to http://www.regulations.gov. For more information, you may review DOT's complete Privacy Act Statement in the Federal Register published April 11, 2000 (65 FR 19477), or you may visit http://www.regulations.gov.

FOR FURTHER INFORMATION CONTACT: Laura Goldin, FTA Attorney-Advisor, at (202) 366-2743 or laura.goldin@dot.gov.

SUPPLEMENTARY INFORMATION: The purpose of this notice is to provide notice and seek public comment on whether the FTA should grant a Buy America waiver to VODT for the purchase of two (2) Voith 21/R5 propulsion units based on non-availability.

On August 12, 2015, VDOT requested a Buy America waiver for the procurement of the propulsion units. VDOT's request identified Voith, located in Germany, as the sole manufacturer of the required propulsion units. No known domestic equivalents exist. VDOT is procuring the propulsion units as part of an engine and drive system replacement for the Ferry Boat Pocahontas, which is operated by VDOT on the Jamestown-Scotland ferry route crossing the James River in Virginia.

The original propulsion units have reached the end of their useful life. Although the new ferry engines will be manufactured domestically by Caterpillar, Inc., the vessel has a specific propulsion design utilizing a vertical axis cycloidal propeller. The Pocahontas was designed around the vertical propeller configuration. The entirety of the vessel's hull, the engine housing, the dimensions of the vessel, and the ballast locations, are all configured to work with a vertical propulsion unit, which ensures proper piloting and vessel stability. As part of the procurement planning, VDOT contracted with Alion Science and Technology Corp. (Alion) to develop the design of the entire engine replacement. Alion concluded that the Voith propulsion units were paired appropriately (in terms of performance and cost) with the engines manufactured domestically by Caterpillar.

With certain exceptions, FTA's Buy America requirements prevent FTA from obligating an amount that may be appropriated to carry out its program for a project unless “the steel, iron, and manufactured goods used in the project are produced in the United States.” 49 U.S.C. 5323(j)(1). If, however, FTA determines that “the steel, iron, and goods produced in the United States are not produced in a sufficient and reasonably available amount or are not of a satisfactory quality,” then FTA may issue a non-availability waiver. 49 U.S.C. 5323(j)(2)(B); 49 CFR 661.7(c).

Before FTA determines whether to issue a non-availability waiver to VDOT for the Voith propulsion units, FTA seeks public comment from all interested parties in accordance with 49 U.S.C. 5323(j)(3)(A). Comments will help FTA understand completely the facts surrounding the request, including the merit of the request. Full copies of the VDOT's request have been placed in docket number FTA-2015-0027.

Concurrent with the publication of this Notice, FTA will be conducting a scouting search through its Interagency Agreement with the U.S. Department of Commerce's National Institute of Standards and Technology (NIST) that is intended to assist manufacturers and transit agencies identify domestically made products. Interested domestic manufacturers should contact Samm Bowman, Business Specialist, NIST Manufacturing Extension Partnership, at samm@nist.gov or 301-975-5978.

Issued on September 21, 2015.
Dana Nifosi,
Deputy Chief Counsel.

[FR Doc. 2015-24642 Filed 9-28-15; 8:45 am]

BILLING CODE 4910-57-P